DEPARTMENT OF AGRICULTURE

Animal and Plant Health Inspection Service

9 CFR Part 94

[Docket No. 00-030-2]

Change in Disease Status in Denmark Because of BSE

AGENCY: Animal and Plant Health Inspection Service, USDA.

ACTION: Final rule.

SUMMARY: We are amending the regulations by adding Denmark to the list of regions where bovine spongiform encephalopathy exists because the disease has been detected in a native-born animal in that region. Denmark has been listed among the regions that present an undue risk of introducing bovine spongiform encephalopathy into the United States. Therefore, the effect of this final rule is a continued restriction on the importation of ruminants that have been in Denmark and meat, meat products, and certain other products of ruminants that have been in Denmark. This final rule is necessary in order to update Denmark's disease status regarding bovine spongiform encephalopathy.

EFFECTIVE DATE: September 25, 2000.

FOR FURTHER INFORMATION CONTACT: Dr. Donna Malloy, Senior Staff Veterinarian, National Center for Import and Export, Products Program, VS, APHIS, 4700 River Road Unit 40, Riverdale, MD 20737-1231; (301) 734-3277.

SUPPLEMENTARY INFORMATION:

Background

The regulations in 9 CFR parts 93, 94, 95, and 96 (referred to below as the regulations) govern the importation of certain animals, birds, poultry, meat, other animal products and byproducts, hay, and straw into the United States in order to prevent the introduction of various animal diseases, including bovine spongiform encephalopathy (BSE).

BSE is a neurological disease of bovine animals and other ruminants and is not known to exist in the United States.

It appears that BSE is primarily spread through the use of ruminant feed containing protein and other products from ruminants infected with BSE. Therefore, BSE could become established in the United States if materials carrying the BSE agent, such as certain meat, animal products, and animal byproducts from ruminants in regions in which BSE exists, or in which there is an undue risk of introducing BSE into the United States, are imported into the United States and are fed to ruminants in the United States. BSE could also become established in the United States if ruminants from regions in which BSE exists, or ruminants from regions in which there is an undue risk of introducing BSE into the United States, are imported into the United States.

Denmark has been listed in § 94.18(a)(2) as a region that presents an undue risk of introducing BSE into the United States. However, on February 25, 2000, Denmark's Ministry of Agriculture confirmed a case of BSE in a native-born animal. Therefore, on May 17, 2000, we published in the Federal Register (65 FR 31290-31291, Docket 00-030-1) a proposal to amend the regulations by adding Denmark to the list in § 94.18(a)(1) of regions where BSE exists. Regions on both lists are subject to the same restrictions on the importation of ruminants, meat, meat products, and certain other products of ruminants, into the United States.

We solicited comments concerning our proposal for 60 days ending July 17, 2000. We did not receive any comments. Therefore, for the reasons given in the proposed rule, we are adopting the proposed rule as a final rule, without change.

Executive Order 12866 and Regulatory Flexibility Act

This proposed rule has been reviewed under Executive Order 12866. For this action, the Office of Management and Budget has waived its review process required by Executive Order 12866.

We are amending the regulations by adding Denmark to the list of regions where BSE exists because the disease has been detected in a native-born animal in that region.

Denmark has been listed among the regions that present an undue risk of introducing BSE into the United States. Regardless of which of the two lists a region is on, the same restrictions apply to the importation of ruminants, meat, meat products, and certain other products of ruminants that have been in that region. Therefore, this final rule will not result in any change in the rules that apply to the importation of ruminants, meat, meat products, or other products of ruminants that have been in Denmark.

Under these circumstances, the Administrator of the Animal and Plant Health Inspection Service has determined that this action will not have a significant impact on a substantial number of small entities.

Executive Order 12988

This rule has been reviewed under Executive Order 12988, Civil Justice Reform. This rule: (1) Preempts all State and local laws that are inconsistent with this rule; (2) has no retroactive effect; and (3) does not require administrative proceedings before parties may file suit in court challenging this rule.

Paperwork Reduction Act

This final rule contains no information collection or recordkeeping requirements under the Paperwork Reduction Act of 1995 (44 U.S.C. 3501 et seq.).

List of Subjects in 9 CFR Part 94

Animal diseases, Imports, Livestock, Meat and meat products, Milk, Poultry and poultry products, Reporting and recordkeeping requirements.

Accordingly, we are amending 9 CFR part 94 as follows:

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

1. The authority citation for part 94 continues to read as follows:

Authority: Title IV, Pub. L. 106-224, 114 Stat. 438, 7 U.S.C. 7701-7772; 7 U.S.C. 450; 19 U.S.C. 1306; 21 U.S.C. 111, 114a, 134a, 134b, 134c, 134f, 136, and 136a; 31 U.S.C. 9701; 42 U.S.C. 4331 and 4332; 7 CFR 2.22, 2.80, and 371.4.

§ 94.18 [Amended]

2. Section 94.18 is amended as follows:

a. In paragraph (a)(1), by adding the word “Denmark,” in alphabetical order.

b. In paragraph (a)(2), by removing the word “Denmark,”.

Done in Washington, DC this 18th day of August 2000.
Bobby R. Acord,
Acting Administrator, Animal and Plant Health Inspection Service.

[FR Doc. 00-21650 Filed 8-23-00; 8:45 am]

BILLING CODE 3410-34-U